DEPARTMENT OF ENERGY

Federal Energy Regulatory Commission

[Docket No. ER96-1085-006, et al.]

South Carolina Electric & Gas Company, et al.; Electric Rate and Corporate Filings

July 18, 2003.

The following filings have been made with the Commission. The filings are listed in ascending order within each docket classification.

1. South Carolina Electric & Gas Company

[Docket No. ER96-1085-006]

Take notice that on July 15, 2003, South Carolina Electric and Gas Company filed its second triennial market power analysis in support of its market pricing authority.

Comment Date: August 5, 2003.

2. MI Energy, LLC

[Docket No. ER03-1076-000]

Take notice that on July 15, 2003, MI Energy, LLC tendered for filing a Notice of Cancellation of its FERC Rate Schedule No. 1.

MI Energy states that it has no long-term customers, is not regulated by a state commission, and has no outstanding market-based rate transactions. Therefore, MI Energy states it has not served copies of this filing upon any entity.

Comment Date: August 5, 2003.

3. Virginia Electric and Power Company

[Docket No. ER03-1077-000]

Take notice that on July 15, 2003, Virginia Electric and Power Company, d/b/a Dominion Virginia Power (the Company), filed copies of a letter agreement between Central Virginia Electric Cooperative (CVEC) and the Company. The Company states that the letter agreement, dated June 11, 2003, adds a new delivery point to the March 20, 1967 Contract for the Purchase of Electricity for Resale by Rural Electric Cooperatives, as amended, between CVEC and the Company, First Revised Rate Schedule FERC No. 94. The Company requests waiver of the Commission's notice of filing requirements to allow the letter agreement to become effective on August 1, 2003. The Company states that it will begin service under the new delivery point on or after August 1, 2003.

The Company states that copies of the filing were served upon CVEC, the Virginia State Corporation Commission and the North Carolina Utilities Commission.

Comment Date: August 5, 2003.

4. Calpine Newark, LLC

[Docket Nos. QF86-891-005 and EL03-211-000]

Take notice that on July 11, 2003, Calpine Newark, LLC filed with the Federal Energy Regulatory Commission (Commission), a petition for limited waiver of the Commission's operating and efficiency standards for a topping-cycle cogeneration facility.

Comment Date: August 11, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-18949 Filed 7-24-03; 8:45 am]

BILLING CODE 6717-01-P